DEPARTMENT OF DEFENSE

Defense Acquisition Regulation System

[Docket Number 2015-0039]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. chapter 35).

DATES: Consideration will be given to all comments received by April 14, 2016.

SUPPLEMENTARY INFORMATION:

Title, Associated Forms, and OMB Number: Safeguarding Covered Defense Information, Cyber Incident Reporting, and Cloud Computing; Defense Federal Acquisition Regulation Supplement (DFARS) Parts 204 and 239, and related clauses at DFARS 252; OMB Control Number 0704-0478.

Type of Request: Revision of a currently approved collection.

Number of Respondents: 10,954.

Responses per Respondent: 5.5, approximately.

Annual Responses: 60,494.

Average Burden per Response: 4.15 hours, approximately.

Annual Burden Hours: 250,840.

Needs and Uses: This requirement provides for the collection of information related to reporting of cyber incidents on unclassified networks or information systems, within cloud computing services, and when they affect contractors designated as providing operationally critical support as required by statute.

a. The clause at DFARS 252.204-7012, Safeguarding Covered Defense Information and Cyber Incident Reporting, requires contractors to report cyber incidents that affect a covered contractor information system or the covered defense information residing therein.

b. The provision at DFARS 252.204-7008, Compliance with Safeguarding Covered Defense Information Controls, requires an offeror that proposes to deviate from any of the security controls of National Institute of Standards and Technology Special Publication 800-171 in effect at the time the solicitation is issued, the offeror must submit to the contracting officer a written explanation of how the specified security control is not applicable or an alternative control or protective measure is used to achieve equivalent protection.

c. The provision at DFARS 252.239-7009, Representation of Use of Cloud Computing, requires contractors to report that they “anticipate” or “do not anticipate” utilizing cloud computing service in performance of the resultant contract in order to notify contracting officers of the applicability of the requirement in the clause at DFARS 252.239-7010.

d. The clause at DFARS 252.239-7010, Cloud Computing Services, requires reporting of cyber incidents that occur when DoD is purchasing cloud computing services.

Affected Public: Businesses or other for-profit and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the Internet at http://www.regulations.gov as they are received without change, including any personal identifiers or contact information provided. To confirm receipt of your comment(s), please check http://www.regulations.gov approximately two to three days after submission to verify posting (except allow 30 days for posting of comments submitted by mail).

DoD Public Collections Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Jennifer L. Hawes,
Editor, Defense Acquisition Regulations System.

[FR Doc. 2016-05814 Filed 3-14-16; 8:45 am]

BILLING CODE 5001-06-P